DEPARTMENT OF COMMERCE

Bureau of Industry and Security

Transportation and Related Equipment Technical Advisory Committee; Notice of Open Meeting

The Transportation and Related Equipment Technical Advisory Committee will meet on September 21, 2004, 9:30 a.m., at the Herbert C. Hoover Building, Room 3884, 14th Street between Pennsylvania & Constitution Avenues, NW., Washington, DC. The Committee advises the Office of the Assistant Secretary for Export Administration with respect to technical questions that affect the level of export controls applicable to transportation and related equipment or technology.

Agenda

1. Opening remarks and introductions.

2. Review of Wassenaar Arrangement and Technical Working Group issues.

3. Review of Missile Technology Control Regime issues.

4. Update on Export Administration Regulations.

5. Update on status of U.S. Munitions List.

6. Update on country-specific policies.

7. Update on policies and procedures.

8. Presentation of papers, proposals and comments by the public.

9. Review of new and open action items.

The meeting will be open to the public and a limited number of seats will be available. Reservations are not accepted. To the extent time permits, members of the public may present oral statements to the Committee. Written statements may be submitted at any time before or after the meeting. However, to facilitate distribution of public presentation materials to Committee members, the Committee suggests that you forward your public presentation materials two weeks prior to the meeting to Lee Ann Carpenter at Lcarpent@bis.doc.gov For more information, please call Ms. Carpenter on (202) 482-2583.

Dated: August 18, 2004.
Lee Ann Carpenter,
Committee Liaison Officer.

[FR Doc. 04-19273 Filed 8-20-04; 8:45 am]

BILLING CODE 3510-JT-M